DEPARTMENT OF HEALTH AND HUMAN SERVICES

Administration for Children and Families

Proposed Information Collection Activity; Comment Request

Title: Parents and Children Together (PACT) Evaluation.

OMB No.: 0970-0403.

Description: The Office of Planning, Research, and Evaluation (OPRE), Administration for Children and Families (ACF), U.S. Department of Health and Human Services (HHS), is proposing data collection activity as part of the Parents and Children Together (PACT) Evaluation.

The PACT project is a formative evaluation whose overall objective is to document and provide initial assessment of selected Responsible Fatherhood and Healthy Marriage grant programs that were authorized under the 2010 Claims Resolution Act. This information will be critical to informing decisions related to future investments in this kind of programming as well as the design and operation of such services.

To meet the objective of the study, PACT is utilizing three major, interrelated evaluation strategies:

(a) Impact evaluation;

(b) Implementation evaluation; and

(c) Qualitative evaluation.

Each of these strategies will be employed separately with (1) Responsible Fatherhood and (2) Healthy Marriage grantees. Specifically, we anticipate the following studies:

(a) Impact evaluation:

(1) Responsible Fatherhood grantee evaluation; and (2) Healthy Marriage grantee evaluation.

(b) Implementation evaluation:

(1) Responsible Fatherhood grantee evaluation;

(1—additional substudy) Responsible Fatherhood grantee evaluation with a focus on Hispanic populations; and

(2) Healthy Marriage grantee evaluation.

(c) Qualitative evaluation:

(1) Responsible Fatherhood grantee evaluation.

The following instruments have been approved for this study: Site selection: a discussion guide to assist in selecting sites was approved by OMB on April 20, 2012.

(a) Impact evaluation:

(1) Responsible Fatherhood grantee evaluation:

• Introductory script, approved October 31, 2012.

• Baseline survey, approved October 31, 2012.

(b) Implementation evaluation:

(1) Responsible Fatherhood grantee evaluation:

• Responsible Fatherhood Study MIS, approved October 31, 2012.

This 60-Day Federal Register Notice requests clearance of new instruments:

(a) Impact evaluation:

(1) Healthy Marriage grantee evaluation:

• Introductory script, which program staff will use to introduce the study to participants.

• Baseline survey, to capture participant characteristics and experiences prior to randomization.

(b) Implementation evaluation:

(1) and (2) Responsible Fatherhood and Healthy Marriage grantee evaluation:

• Semi-structured interview topic guide, to gather information on program implementation from program staff.

• On-line survey, to capture program staff experiences.

• Telephone interviews (with staff at referral organizations), to document linkages between the program and referral agencies.

• Working Alliance Inventory, to assess the strength of the participant-program staff working relationship.

• Focus group guide, to elicit participant experiences.

• Telephone interviews (with program dropouts), to determine reasons why those eligible for the program choose not to participate.

(1—additional substudy) Responsible Fatherhood grantee evaluation with a focus on Hispanic populations:

• Semi-structured interview topic guide, to examine how agencies adapt programs to address the needs of Hispanic populations.

• Focus group guide, to elicit participant experiences.

• Participant questionnaire, to capture participant characteristics and experiences.

(2) Healthy Marriage grantee evaluation:

• Study MIS (for use in HM programs), to track participation in the program.

(c) Qualitative evaluation:

(1) Responsible Fatherhood grantee evaluation:

• Guide for in-person, in-depth interviews, to understand the experiences, both in and out of the program, of a subset of men.

• Check-in call guide, to follow-up from the in-person, in-depth interviews, to ascertain new experiences by these men since last discussion.

This 60-Day Federal Register Notice also serves as a request for OMB to waive subsequent 60-day Federal Register notices pertaining to the PACT Evaluation.

Respondents:

Respondents include program applicants, program participants, program staff, and staff at referral agencies. Specific respondents per instrument are noted in the burden tables below.

Annual Burden Estimates

Some burden has already been approved for this study, and the following instruments are still in use. Approved burden is provided below:

Instrument respondent | Annual number of respondents | Number of responses per respondent | Average burden per response (minutes) | Total annual burden hours
Site Selection
Selecting Study Grantees:
Discussions/grantee and partner organization staff | 50 | 1 | 60 | 50
Impact
Responsible Fatherhood Grantee Evaluation
Introductory Script:
Grantee staff | 30 | 70.2 | 10 | 351
Program applicants | 2,105 | 1 | 10 | 351
Baseline Survey:
Study participants | 2,000 | 1 | 30 | 1,000
Implementation
Responsible Fatherhood Grantee Evaluation
RF Study MIS:
Grantee staff | 30 | 2,533 | 2 | 2,533
Total |  |  |  | 4,285

This current 60-Day Federal Register Notice covers many new instruments:

Instrument respondent | Annual number of respondents | Number of responses per respondent | Average burden per response (minutes) | Total annual burden hours
Impact
Healthy Marriage Grantee Evaluation
Introductory script:
Program staff | 20 | 246 | 10 | 820
Program applicants | 4,211 | 1 | 10 | 702
Baseline survey:
Study participants | 4,000 | 1 | 30 | 2,000
Implementation
Responsible Fatherhood and Healthy Marriage Grantee Evaluation
Semi-structured interview topic guide:
Program staff | 250 | 2 | 62 | 517
On-line survey:
Program staff | 250 | 2 | 30 | 250
Telephone interviews (with staff at referral organizations):
Program staff at referral organizations | 50 | 1 | 30 | 25
Working Alliance Inventory:
(1) Program staff | 50 | 20 | 10 | 167
(2) Participants | 1,000 | 1 | 10 | 167
Focus group guide:
Study participants | 600 | 1 | 90 | 900
Telephone interviews (with program dropouts):
Study participants (program dropouts) | 150 | 1 | 15 | 38
Additional Substudy: Responsible Fatherhood Grantee Evaluation With a Focus on Hispanic Populations
Semi-structured interview topic guide:
Program staff | 42 | 1 | 65 | 45
Focus group guide:
Study participants | 25 | 1 | 90 | 38
Participant questionnaire:
Study Participants | 25 | 1 | 30 | 13
Healthy Marriage Grantee Evaluation
HM Study MIS (for use in HM programs):
Program staff | 30 | 3,400 | 2 | 3,400
Qualitative
Responsible Fatherhood Grantee Evaluation
Guide for in-person, in-depth interviews:
Study participants | 95 | 3 | 120 | 570
Check-in call guide:
Study participants | 63 | 4 | 10 | 42
Total |  |  |  | 9,694

Estimated Total Annual Burden Hours (for instruments previously approved and currently in use, as well as those associated with this 60-Day Notice): 13,969.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Administration for Children and Families, Reports Clearance Officer.

[FR Doc. 2012-28321 Filed 11-20-12; 8:45 am]

BILLING CODE 4184-37-P